DEPARTMENT OF HOMELAND SECURITY

Transportation Security Administration

[Docket No. TSA-2005-21866]

Extension Agency Information Collection Activity Under OMB Review: Enhanced Security Procedures at Ronald Reagan National Airport (DCA)

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on August 26, 2005, 70 FR 50391.

DATES: Send your comments by November 25, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Enhanced Security Procedures at Ronald Reagan National Airport (DCA).

Type of Request: Extension of a currently approved collection.

OMB Control Number: 1652-0035.

Forms(s): “Flight Authorization Request Form,” “Armed Security Officer Nomination Form,” “FBO and Operator Initial Information Survey.”

Affected Public: General aviation aircraft operators, crewmembers, and passengers.

Abstract: On July 19, 2005, TSA published an interim final rule (IFR) to restore access to Ronald Reagan National Airport (DCA) for certain aircraft operations while maintaining the security of critical Federal Government and other assets in the Washington, DC metropolitan area. The IFR amended 49 CFR part 1562 by adding a new subpart B entitled Ronald Reagan-Washington National Airport: Enhanced Security Procedures for Certain Operations. The IFR and this information collection apply to all passenger aircraft operations into or out of DCA, except U.S. air carrier operations operating under a full security program required by 49 CFR part 1544 and foreign air carrier operations operating under 49 CFR 1546.101(a) or (b). TSA requires individuals designated as security coordinators by Fixed Based Operators (FBOs) and general aviation aircraft, flight crewmembers who operate general aviation aircraft into and out of DCA in accordance with the IFR, and armed security officers (ASOs) approved in accordance with the IFR to submit fingerprints and other identifying information. In addition, general aviation aircraft operators are required to provide TSA with identifying information for all individuals onboard each aircraft that operates into and out of DCA. General aviation aircraft operators also are required to provide TSA with the flight plan and registration number of their aircraft that will operate to or from DCA. Finally, aircraft operators and FBOs are required to nominate the individuals they would like to be qualified as ASOs by submitting an ASO Nomination Form to TSA. Once nominated, the ASOs are required to submit identifying information, as well as employment history information, by completing an on-line application.

Number of Respondents: 2,025.

Estimated Annual Burden Hours: An estimated 13,298 hours annually.

Issued in Arlington, Virginia, on October 19, 2005.
Lisa S. Dean,
Privacy Officer.

[FR Doc. 05-21364 Filed 10-25-05; 8:45 am]

BILLING CODE 4910-62-P